DEPARTMENT OF LABOR

Employment and Training Administration

[TA-W-39,573]

Cooper Wiring Devices—Georgetown, SC; Amended Certification Regarding Eligibility To Apply for Worker Adjustment Assistance

In accordance with Section 223 of the Trade Act of 1974 (19 U.S.C. 2273) the Department of Labor issued a Certification of Eligibility to Apply for Worker Adjustment Assistance on August 29, 2001, applicable to workers of Cooper Wiring Devices, Assembly Department, Georgetown, South Carolina. The notice was published in the Federal Register on September 11, 2001 (66 FR 47241). The certification was amended on March 8, 2002 to include all workers of the Georgetown, South Carolina location of the subject firm. The notice was published in the Federal Register on April 22, 2002 (67 FR 19590).

At the request of a company official, the Department reviewed the certification for workers of the subject firm. The workers were engaged in the production of wiring devices.

New information shows that Mr. Tony Johnson was retained at the subject firm beyond the August 29, 2003 expiration date of the certification. Mr. Johnson completed the close-down process until his termination on November 30, 2003.

Based on these findings, the Department is amending the certification to extend the August 29, 2003 expiration date for TA-W-39,573 to read November 30, 2003.

The intent of the Department's certification is to include all workers of Cooper Wiring Devices, Georgetown, South Carolina, who were adversely affected by a shift in production to Mexico.

The amended notice applicable to TA-W-39,573 is hereby issued as follows:

All workers of Cooper Wiring Devices, Georgetown, South Carolina, who became totally or partially separated from employment on or after June 27, 2000, through November 30, 2003, are eligible to apply for adjustment assistance under Section 223 of the Trade Act of 1974.

Signed at Washington, DC, this 19th day of August 2004.
Linda G. Poole,
Certifying Officer, Division of Trade Adjustment Assistance.

[FR Doc. 04-19413 Filed 8-24-04; 8:45 am]

BILLING CODE 4510-30-P